ENVIRONMENTAL PROTECTION AGENCY

[FRL-7431-8]

Meeting of the Mobile Sources Technical Review Subcommittee

AGENCY: Environmental Protection Agency (EPA).

ACTION: Notice of meeting.

SUMMARY: Pursuant to the Federal Advisory Committee Act, Public Act, Pub. L. 92-463, notice is hereby given that the Mobile Sources Technical Review Subcommittee will meet in February 2003. This is an open meeting. The meeting will include presentations from EPA and other outside organizations. The preliminary agenda for this meeting will be available on the Subcommittee's web site in January. Draft minutes from the previous meetings are available on the Subcommittee's Web site now at: http://www.epa.gov/air/caaac/mobile_sources.html.

DATES: Wednesday, February 12, 2003 from 9 am. to 3:30 pm. Registration begins at 8:30 am.

ADDRESSES: The meeting will be held at the Radisson Hotel Old Town Alexandria, 901 N Fairfax St, Alexandria, VA 22314; (703) 683-6000.

FOR FURTHER INFORMATION CONTACT: For technical information: Mr. Barry Garelick, Technical Staff Contact, Transportation and Regional Programs Division, MC: 6406J, U.S. EPA, 1200 Pennsylvania Ave., NW., Washington, DC 20460, Ph: (202) 564-9028; FAX: (202) 565-2085, e-mail; garelick.barry@epa.gov.

For logistical and administrative information: Ms. Kim Derksen, FACA Management Officer, U.S. EPA, 2000 Traverwood Drive, Ann Arbor, Michigan, Ph: 734-214-4272; FAX 734-214-4906, e-mail: derksen.kimberly@epa.gov.

Background on the work of the Subcommittee is available at: http://transaq.ce.gatech.edu/epatac.

For more current information: http://epa.gov/air/caaac/mobile_sources.html.

Individuals or organizations wishing to provide comments to the Subcommittee should submit them to Mr. Garelick at the address above by January 30, 2003. The Mobile Sources Technical Review Subcommittee expects that public statements presented at its meetings will not be repetitive of previously submitted oral or written statements.

SUPPLEMENTARY INFORMATION: During this meeting, the Subcommittee may also hear progress reports from some of its workgroups as well as updates and announcements on activities of general interest to attendees.

Dated: December 20, 2002.
Margo T. Oge,
Director, Office of Transportation and Air Quality.

[FR Doc. 02-32775 Filed 12-26-02; 8:45 am]

BILLING CODE 6560-50-P